DEPARTMENT OF ENERGY

U.S. Energy Information Administration

Proposed Agency Information Collection

AGENCY: U.S. Energy Information Administration (EIA), U.S. Department of Energy.

ACTION: Notice and Request for OMB Review and Comment.

SUMMARY: In accordance with the provisions of the Paperwork Reduction Act of 1995, EIA has submitted to the Office of Management and Budget (OMB) for clearance:

• EIA-3 “Quarterly Survey of Non-Electric Sector Coal Data”

• EIA-6 “Emergency Coal Supply Survey (Standby)”

• EIA-7A “Annual Survey of Coal Production and Preparation”

• EIA-8A “Annual Survey of Coal Stocks and Coal Exports”

• EIA-20 “Emergency Weekly Coal Monitoring Survey for Coal Burning Power Producers (Standby)”

The proposed coal forms will be used to collect production, consumption, receipts, stocks, and prices. EIA proposes to discontinue standby Forms EIA-1 and EIA-4. To date, these forms have never been deployed. In addition, coal and coke data collected on Form EIA-5 in Schedules II, III, and IV will now be collected on Form EIA-3. Hence, EIA proposes to discontinue the Form EIA-5. Forms EIA-7A and EIA-8A will now include new fields for metallurgical and non-metallurgical coal under sections on Open and Captive Market Sales to gather more accurate revenue data from each type of sale, in addition to new questions that were proposed, to reduce double-counting and improve accuracy of data submitted. Improvements to instructions have been proposed on all forms. Form title changes are proposed for all surveys in the package, including standby Forms EIA-6 and EIA-20. We have updated the number of respondents and annual burden hours to reflect the most recent respondent count in our four frames. The number of respondents now reporting on the EIA-3 and EIA-7A has decreased significantly.

DATES: Comments regarding this proposed information collection must be received on or before April 14, 2014. If you anticipate that you will be submitting comments, but find it difficult to do so within the period of time allowed by this notice, please advise the DOE Desk Officer at OMB of your intention to make a submission as soon as possible. The Desk Officer may be telephoned at 202-395-4650.

ADDRESSES: Written comments should be sent to the

DOE Desk Officer, Office of Information and Regulatory Affairs, Office of Management and Budget, New Executive Office Building, Room 10102, 735 17th Street NW., Washington, DC 20503.

And to

Attn: Tejasvi Raghuveer, EIA-3 Survey Manager, U.S. Energy Information Administration, EI-24, 1000 Independence Avenue SW., Washington, DC 20585.

FOR FURTHER INFORMATION CONTACT: Requests for additional information or copies of the information collection instrument and instructions should be directed to Tejasvi Raghuveer at Tejasvi.raghuveer@eia.gov. The collection instruments can be viewed using link: http://www.eia.gov/survey/#eia-3.

SUPPLEMENTARY INFORMATION: This information collection request contains: (1) OMB No. 1905-0167; (2) Information Collection Request Title: Coal Program Package; (3) Type of Request: Revision; (4) Purpose: The coal surveys collect data on coal production, consumption, stocks, prices, imports and exports. Data are published in various EIA publications. Respondents include producers of coke, purchasers and distributors of coal, coal mining operators, and coal-consuming non-electric sites; (5) Annual Estimated Number of Respondents: 1788; (6) Annual Estimated Number of Total Responses: 3270; (7) Annual Estimated Number of Burden Hours: 3764; (8) Annual Estimated Reporting and Recordkeeping Cost Burden: EIA estimates that there are no additional costs to respondents associated with the surveys other than the costs associated with the burden hours.

Statutory Authority: Section 13(b) of the Federal Energy Administration Act of 1974, Public Law 93-275, codified at 15 U.S.C. 772(b), and the DOE Organization Act of 1977, Public Law 95-91, codified at 42 U.S.C. 7101 et seq.

Issued in Washington, DC, on March 7, 2014.
Stephen Harvey,
Assistant Administrator for Energy Statistics, U. S. Energy Information Administration.

[FR Doc. 2014-05654 Filed 3-13-14; 8:45 am]

BILLING CODE 6450-01-P